DEPARTMENT OF THE INTERIOR

Bureau of Land Management

[BLM_CA_FRN_MO4500174427]

Notice of New Recreation Fees on Public Lands in Humboldt, Trinity, and Shasta Counties, CA

AGENCY: Bureau of Land Management, Interior.

ACTION: Notice of new recreation fees.

SUMMARY: Pursuant to the Federal Lands Recreation Enhancement Act, the Northern California District Office of the Bureau of Land Management (BLM) is providing notice that the Arcata Field Office, King Range National Conservation Area (NCA) is implementing a new Individual Special Recreation Permit (ISRP) fee for overnight use in the King Range Wilderness, and the Redding Field Office is implementing a new fee for overnight camping at Steiner Flat Campground and Ohl Olsen Campground.

DATES: The new fees at the King Range NCA and Ohl Olsen Campground will take effect November 12, 2024, and the new fees at the Steiner Flat campground will take effect when the upgrades listed in this notice are complete or November 12, 2024, whichever is later.

ADDRESSES: Please send comments to the BLM Northern California District Office, 6640 Lockheed Dr. Redding, California 96002, or by email at BLM_CA_Web_RE@blm.gov.

FOR FURTHER INFORMATION CONTACT: Public Affairs Officer Joseph J. Fontana, telephone: 530-260-0189; email: jfontana@blm.gov. Individuals in the United States who are deaf, deafblind, hard of hearing, or have a speech disability may dial 711 (TTY, TDD, or TeleBraille) to access telecommunications relay services. Individuals outside the United States should use the relay services offered within their country to make international calls to contact Mr. Fontana in the United States.

SUPPLEMENTARY INFORMATION: Fees help ensure that those who recreate on public lands make a greater, but reasonable, contribution toward protecting and enhancing those opportunities than those who do not utilize recreation opportunities. Information about the use of the fee revenues will be posted at one or more kiosks within the fee areas annually.

King Range NCA

The BLM will implement a fee of $12 per person per overnight trip (maximum stay per trip is 14 days) in the King Range Wilderness. There will be no fee for children 16 and under and no fee for day use.

The King Range NCA encompasses 68,000 acres of public lands along 35 miles of coastline, draws people from all over the world to visit the “Lost Coast” of California, and offers one of the only coastal backpacking opportunities in the contiguous United States. Providing safety and trip planning support for visitors is important due to the unique safety issues associated with a coastal wilderness environment, including the influence of tides, waves, and storms.

The King Range NCA is managed as a “Special Area” and is a component of the BLM's National Landscape Conservation System. Special Areas are defined as areas officially designated by statute, Presidential decree, or Secretarial order and include components of the National Wilderness Preservation System. The 2005 King Range NCA Resource Management Plan directed the BLM to establish visitor carrying capacities, a permit system, and a fee schedule for overnight backcountry use. Since 2017, overnight visitation in the King Range Wilderness has been managed with a free ISRP issued through www.recreation.gov.

In accordance with the BLM recreation fee program policy, the King Range NCA developed a business plan in 2023 to establish future management goals and priorities to determine how the BLM intends to use fees to improve and maintain visitor services. As discussed in the business plan, the ISRP fee for overnight visitation in the King Range Wilderness is consistent with other established fee sites for similar areas. The BLM has notified and involved the public throughout this process and released the draft business plan for a public comment period from April 21 to May 22, 2023. The BLM presented the proposed project and the results of the public comment period to the Northern California Resource Advisory Council (RAC) on October 26, 2023. The RAC supported the fees as provided in the business plan.

Redding Field Office

The BLM will implement a new $15 fee for overnight camping at Steiner Flat Campground, located near Douglas City, California, along the Trinity River. The campground will be upgraded to include the following amenities: toilets, trash service, increased park ranger and law enforcement presence, and campsites with campfire rings, tables, bear-proof food storage boxes, and tent pads. The upgraded amenities will help reduce environmental impacts and improve the experience for those using the site. Fees will begin when all the amenities are available in the campground or 6 months after this notice is published, whichever is later.

Ohl Olsen Campground is a group-use campground near Shasta Lake City, California, in the Chappie-Shasta Off-Highway-Vehicle Area. The BLM will implement a new fee of $60 per night for the lower site (maximum of 30 people) and $80 per night for the upper site (maximum of 50 people).

In accordance with the BLM recreation fee program policy, the Redding Field Office finalized a business plan in 2023 to establish future management goals and priorities for the recreation fee program. As discussed in the business plan, the overnight camping fees for Steiner Flat Campground and Ohl Olsen Campground are consistent with other established fee sites for similar areas and services. The BLM has notified and involved the public throughout this process and released the draft business plan for a public comment period from October 4 to November 2, 2021. The BLM presented the proposed project and the results of the public comment period to the Northern California RAC on October 26, 2023. The RAC supported the fees as provided in the business plan.

(Authority: 16 U.S.C. 6803(b).)

Elizabeth Meyer-Shields,
Deputy State Director, Natural Resources.

[FR Doc. 2024-10163 Filed 5-8-24; 8:45 am]

BILLING CODE 4331-15-P